DEPARTMENT OF ENERGY

Federal Energy Regulatory Commission

[Docket No. EL05-113-000]

Acadia Power Partners LLC, Cleco Power LLC, Cleco Evangline LLC, Perryville Partners, L.L.C.; Notice of Institution of Proceeding and Refund Effective Date

May 26, 2005.

On May 25, 2005, the Commission issued an order that instituted a proceeding in Docket No. EL05-113-000, pursuant to section 206 of the Federal Power Act (FPA), 16 U.S.C. 824e, concerning the justness and reasonableness of the Cleco Companies' market-based rates in the Cleco Power LLC, Cleco Evangline LLC, Perryville Energy Partners, L.L.C. and Acadia Power Partners control area. South Point Energy Center, LLC, et al., 111 FERC ¶ 61,239 (2005).

The refund effective date in Docket No. EL05-113-000, established pursuant to section 206(b) of the FPA, will be 60 days from the date of publication of this notice in the Federal Register.

Magalie R. Salas,
Secretary.

[FR Doc. E5-2860 Filed 6-2-05; 8:45 am]

BILLING CODE 6717-01-P